DEPARTMENT OF COMMERCE

National Oceanic and Atmospheric Administration

50 CFR Part 660

[Docket No.; 000830248-0248-01; I.D. 080400A]

RIN 0648-AN38

Fisheries off West Coast States and in the Western Pacific; Pacific Coast Groundfish Fishery; Advance Notice of Proposed Rulemaking to Establish a Control Date

AGENCY: National Marine Fisheries Service (NMFS), National Oceanic and Atmospheric Administration (NOAA), Commerce.

ACTION: Advance notice of proposed rulemaking; notice of control date for the Pacific Coast groundfish fishery; request for comments.

SUMMARY: The Pacific Fishery Management Council (Council) as authorized by the American Fisheries Act (AFA) is considering management measures to recommend to the Secretary of Commerce (Secretary) to protect the Pacific Coast groundfish fisheries from adverse impacts caused by the AFA. This document announces a control date of June 29, 2000; any limited entry permit on that date owned by an owner of a vessel eligible for benefits under the AFA (AFA-qualified) and registered for use with an AFA-qualified vessel that does not meet minimum participation requirements that may be established in the future may be subject to restrictions on being registered to participate in the Pacific Coast groundfish fisheries. Additionally, participation by AFA-qualified catcher/processors and motherships not previously active in the at-sea whiting fishery may be restricted. The intended effect of this action is to discourage speculative entry or increased effort in the Pacific Coast groundfish fisheries by entities eligible for AFA benefits and to provide notice of potential permit restrictions or revocation to purchasers or lessees of limited entry permits owned by AFA-qualified vessel owners and registered for use with AFA-qualified vessels.

DATES: Comments may be submitted in writing by October 13, 2000.

ADDRESSES: Comments may be mailed to Jim Lone, Chairman, Pacific Fishery Management Council, 2130 SW Fifth Avenue, Suite 224, Portland OR 97201.

FOR FURTHER INFORMATION CONTACT: The Pacific Fishery Management Council at 503-326-6352; or Bill Robinson at 206-526-6140; or Svein Fougner at 562-980-4000.

SUPPLEMENTARY INFORMATION: The Pacific Council which was established under section 302(a)(1)(F) of the Magnuson-Stevens Fishery Conservation and Management Act (16 U.S.C. 1852 (a)(1)(F) is considering conservation and management measures to recommend to the Secretary to protect fisheries under its jurisdiction and the participants in those fisheries from adverse impacts caused by the AFA (Pub.L. 105-277, Div. C, Title II, October 21, 1998, 112 Stat. 2681-616; 16 U.S.C. 1851 note; 46 U.S.C. 101 note, 12102, 31322; 46 App. 1274 note), or by any fishery cooperatives in the Alaska pollock fishery, as required by section 211(c)(3)(A) of the AFA. Section 211(b)(5) of the AFA prohibits catcher/processors and motherships eligible under the AFA from harvesting or processing fish in any U.S. fishery outside Alaska, except the Pacific whiting fishery, unless harvesting or processing by those catcher/processors and motherships is specifically authorized under a fishery management plan. The Pacific Coast Groundfish Fishery Management Plan (FMP) was approved on January 4, 1982 (47 FR 43964, October 5 1982), and has been amended 11 times. Implementing regulations for the FMP and its amendments are codified at 50 CFR Part 660, subpart G.

Under the AFA, only certain vessels are eligible to participate in the Bering Sea pollock fishery. This eligibility provides greater operational flexibility in when and how these vessels participate in the pollock fishery. Because these AFA-qualified vessels are better able to arrange their schedules, they could potentially increase participation in other fisheries, including Pacific Coast groundfish fisheries. The concern is that AFA-qualified vessels will use benefits gained by the AFA to move into Pacific Coast groundfish fisheries, increase effort, and cause negative impacts on current participants. To prevent any negative impact or “adverse impact”, the AFA provides the Council the opportunity to recommend management measures to the Secretary to protect fisheries under its jurisdiction and participants in those fisheries.

To harvest fish in the limited entry groundfish fisheries, vessels only need to purchase a Federal limited entry permit. Currently, no Federal permit is required to participate as a mothership. Because new permit holders and motherships currently have access rights that are equal to those who have open access fishery currently have access rights that are equal to those who have historically participated in the fishery, speculative entry may be encouraged. Additional effort could exacerbate existing management problems and erode the effectiveness of future measures recommended by the Council. As a result, the Council is considering measures that would restrict the use of AFA-qualified vessels and their limited entry trawl permits in segments of the fishery in which the vessel had not been previously active, as determined by minimum participation requirements.

At its September 1999 meeting, the Council adopted September 16, 1999, as a control date to be used in placing restrictions on participation in the Pacific Coast groundfish fisheries by AFA-qualified catcher vessels in the mothership and shore-based sectors of the Pacific whiting fishery, and to all other non-whiting groundfish fisheries in which catch is landed shoreside (64 FR 66158, November 24, 1999), At the April 2000 meeting, the Council reviewed alternatives for providing protection to Pacific Coast groundfish fisheries and its participants from AFA-qualified vessels and processors that failed to meet minimum participation requirements in the Pacific Coast groundfish fisheries. In addition, the Council considered whether to restrict, suspend, or void permits registered to AFA-qualified vessels if the vessels did not meet the participation requirements.

At its June 2000 meeting, the Council gave further consideration to management measures aimed at protecting Pacific Coast groundfish fishery participants from impacts caused by the AFA. The Council voted to establish a control date of June 29, 2000. Any limited entry permit on that date owned by an owner of a vessel eligible for benefits under the AFA (AFA-qualified) and registered for use with an AFA-qualified vessel that does not meet minimum participation requirements that may be established in the future, may be subject to restrictions on being registered to participate in the Pacific Coast groundfish fisheries, similarly to restrictions imposed on the vessel.

The Council is also considering restricting future participation in the whiting fishery by AFA-qualified motherships and catcher/processors that do not have a history in the fishery. For motherships, the criterion being considered is a certain level of participation in the regular whiting season in either 1998 or 1999. For catcher/processors, the criterion being considered is whether the catcher/processor was licensed to harvest groundfish in 1997, 1998, or 1999 through September 16, 1999. No new AFA-qualified motherships or catcher processors have entered the groundfish fishery since September of 1999.

This document notifies the public that the Council is considering measures to protect the Pacific Coast groundfish fisheries from adverse impacts caused by the APA. The intended effect of this document is to discourage speculative entry or increased effort in the Pacific Coast groundfish fisheries by entities eligible for AFA benefits or revocation to purchasers or lessees of limited entry permits owned by AFA-qualified vessel owners and registered for use with AFA-qualified vessels on June 29, 2000.

Implementation of any management measures for the fishery will require amendment of the regulations implementing the FMP, and may require amending the FMP. Any action will require Council development of a regulatory proposal with public input and a supporting analysis, NMFS approval, and publication of implementing regulations in the Federal Register.This advance notice of proposed rulemaking has been determined to be not significant for purposes of Executive Order 12866.

Authority: 16 U.S.C. 1801 et seq.; Pub. L. 105-277, Div. C, Title II, October 21, 1988.

Dated: September 7, 2000.
William T. Hogarth,
Deputy Assistant Administrator, National Marine Fisheries Service.

[FR Doc. 00-23536 Filed 9-12-00; 8:45 am]

BILLING CODE 3510-22-S